DEPARTMENT OF COMMERCE

National Oceanic and Atmospheric Administration

National Sea Grant Advisory Board (NSGAB)

AGENCY: National Oceanic and Atmospheric Administration, Department of Commerce.

ACTION: Notice of public meeting.

SUMMARY: This notice sets forth the schedule and proposed agenda of a forthcoming meeting of the NSGAB. NSGAB members will discuss and provide advice on the National Sea Grant College Program (NSGCP) in the areas of program evaluation, strategic planning, education and extension, science and technology programs, and other matters as described in the agenda found on the NSGCP Web site at http://seagrant.noaa.gov/WhoWeAre/Leadership/NationalSeaGrantAdvisoryBoard/UpcomingAdvisoryBoardMeetings.aspx.

DATES: The announced meeting is scheduled for Friday, August 12, 2016 from 3:00-5:00 p.m. EDT.

ADDRESSES: The meeting will be held via conference call. Public access is also available at 1315 East-West Highway, Bldg. 3, Room #11817, Silver Spring, MD 20910. In order to attend in person or via conference call, please R.S.V.P to Jennifer Hinden (contact information below) by Friday, July 29, 2016.

STATUS: The meeting will be open to public participation with a 10-minute public comment period from 4:50-5:00 p.m. EDT. Please check the agenda using link in the Summary section to confirm time.

The NSGAB expects that public statements presented at its meetings will not be repetitive of previously submitted verbal or written statements. In general, each individual or group making a verbal presentation will be limited to a total time of three (3) minutes. Written comments should be received by Mrs. Jennifer Hinden by Friday, July 22nd, 2016 to provide sufficient time for NSGAB review. Written comments received after the deadline will be distributed to the NSGAB, but may not be reviewed prior to the meeting date. Seats will be available on a first-come, first-serve basis.

Contact Information: For any questions concerning the meeting or to R.S.V.P., please contact Mrs. Jennifer Hinden, National Sea Grant College Program, National Oceanic and Atmospheric Administration, 1315 East-West Highway, Room 11717, Silver Spring, Maryland 20910, 301-734-1083, Jennifer.Hinden@noaa.gov.

Special Accomodations: These meetings are physically accessible to people with disabilities. If you would like to attend in person, requests for sign language interpretation or other auxiliary aids should be directed to Mrs. Jennifer Hinden by Friday, July 22nd, 2016.

SUPPLEMENTARY INFORMATION: The NSGAB, which consists of a balanced representation from academia, industry, state government and citizens groups, was established in 1976 by Section 209 of the Sea Grant Improvement Act (Pub. L. 94-461, 33 U.S.C. 1128).

The NSGAB advises the Secretary of Commerce and the Director of the NSGCP with respect to operations under the Act, and such other matters as the Secretary refers to them for review and advice.

Dated: June 24, 2016.
Jason Donaldson,
Chief Financial Officer, Office of Oceanic and Atmospheric Research, National Oceanic and Atmospheric Administration.

[FR Doc. 2016-15595 Filed 6-29-16; 8:45 am]

BILLING CODE 3510-KA-P